DEPARTMENT OF THE INTERIOR

Bureau of Land Management

[WY-010-07-5440]

Notice of Availability of Draft Environmental Impact Statement for the Westside Irrigation District Land Conveyance Project, Big Horn and Washakie Counties, WY

AGENCY: Bureau of Land Management, Interior.

ACTION: Notice of Availability (NOA) of Draft Environmental Impact Statement (DEIS).

SUMMARY: In accordance with the National Environmental Policy Act (NEPA) of 1969 as amended, the Bureau of Land Management (BLM) announces the availability of the Westside Irrigation District Land Conveyance Project DEIS for public review and comment. The DEIS analyzes the consequences of a legislated conveyance of all right, title and interest, excluding mineral interest, of a parcel of land administered by the BLM to the Westside Irrigation District, Worland, Wyoming.

DATES: The DEIS will be available for public review and comment for 45 calendar days starting on the date the Environmental Protection Agency (EPA) publishes its NOA in the Federal Register. The BLM can best use public comments if they are submitted within the 45-day review period.

Any public meetings or other involvement activities for the Westside Irrigation District Land Conveyance (Westside Conveyance) project will be announced to the public by the BLM at least 15 days in advance through public notices, media news releases, Web site announcements, or mailings.

ADDRESSES: A copy of the DEIS has been sent to affected Federal, State, and local governments and to interested parties. The DEIS and its supporting documents will be available electronically on the following Web site: http://www.wy.blm.gov/nepa/wfodocs/westside.

Copies of the DEIS are available for public inspection during normal business hours at the following locations:

• Bureau of Land Management, Wyoming State Office, 5353 Yellowstone Road, Cheyenne, Wyoming 82003; and

• Bureau of Land Management, Worland Field Office, 101 S. 23rd, Worland, Wyoming 82401.

Copies of the DEIS will also be delivered to the public libraries in the following communities:

• Worland, Wyoming;

• Basin, Wyoming;

A limited number of copies of the document will be available as long as supplies last. To request a copy, contact Don Ogaard, Project Manager, as described below. Written comments may be submitted by the following methods:

• E-mail: wymail_westside@blm.gov;

• Mail: Don Ogaard, Project Manager, Bureau of Land Management, Worland Field Office, P.O. Box 119, Worland, Wyoming 80401;

• Hand-delivered to the Worland Field Office at the street address listed above.

FOR FURTHER INFORMATION CONTACT: Don Ogaard, Project Manager, Bureau of Land Management, Worland Field Office, P.O. Box 119, 101 S. 23rd, Worland, Wyoming 82401. Mr. Ogaard may also be reached by telephone at (307) 347-5160.

SUPPLEMENTARY INFORMATION: Public Law 106-485 (Nov. 9, 2000; 114 Stat. 2199) directs the Secretary of the Interior, acting through the BLM, to convey a parcel of public land in Big Horn County and Washakie County, to the Westside Irrigation District (Irrigation District), Worland, Wyoming. Public Law 106-485 also directs the BLM to complete an environmental analysis under NEPA.

The Westside Conveyance project area is located in southern Big Horn County and northern Washakie County. The southern end of the project area is approximately 5 miles northwest of Worland, Wyoming. The study area and tract of land comprises 16,500 acres, in Townships 92 W., 92½ W., and 93 W.; Ranges 48 N. and 49 N.

On February 22, 2005, the BLM published in the Federal Register a Notice of Intent to prepare an Environmental Impact Statement (EIS) under the NEPA.

The DEIS considers the environmental consequences of three alternatives:

• The No Action Alternative;

• Alternative 1—the legislated proposed action transferring 16,500 acres; and,

• Alternative 2—an alternative under which only those lands actually suitable for irrigation and those needed for project infrastructure, approximately 11,500 acres, would be transferred.

Alternative 2 is the BLM's Preferred Alternative.

After the sale and conveyance of the land to the Irrigation District, the Irrigation District would offer the conveyed land for sale to qualified individuals in parcels no less than 160 acres per individual. The parcels of land would be specified for use to serve agricultural purposes. The Irrigation District would select qualified individuals through a lottery. Successful individuals then would be required to be members of and their lands included in the Irrigation District.

The law directing the conveyance of the land specifies that acreage may be added to or subtracted from the original 16,500 acres to satisfy any mitigation as required in the Final EIS and its Record of Decision (ROD). Alternative 2 would subtract 5,000 acres in accordance with this provision. The law further provides that proceeds from the sale of the public lands to the Irrigation District will be deposited in a special account “for the acquisition of land and interests in land in the Worland District of the Bureau of Land Management that will benefit public recreation, public access, fish and wildlife habitat, or cultural resources.”

The State of Wyoming Water Development Commission (WWDC) is joint lead agency as provided in 40 Code of Federal Regulations 1500-1580. In the future the WWDC would use the FEIS and ROD in support of any future funding decisions made by the WWDC should the Irrigation District apply for water supply development assistance. Cooperating agencies in the preparation of the DEIS include Big Horn and Washakie Counties.

All comments submitted must include the commenter's name and street address. Comments including the names and addresses of the respondent will be available for public inspection at the Worland Field Office during its business hours (7:45 a.m. to 4:30 p.m.), Monday through Friday, except Federal holidays. Before including your address, phone number, e-mail address, or any other personal identifying information in your comment, be advised that your entire comment, including your personal identifying information may be publicly available at any time. While you can ask us in your comment to withhold from public review your personal identifying information, we cannot guarantee that we will be able to do so.

Robert A. Bennett,
State Director.

[FR Doc. E8-279 Filed 1-10-08; 8:45 am]

BILLING CODE 4310-22-P